DEPARTMENT OF HOMELAND SECURITY

Federal Emergency Management Agency

[Docket ID FEMA-2020-0002; Internal Agency Docket No. FEMA-B-2031]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 31, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2031, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Lake County, Indiana and Incorporated Areas
Project: 13-05-4208S Preliminary Date: September 26, 2019
City of East Chicago | City Hall, 4525 Indianapolis Boulevard, East Chicago, IN 46312.
City of Gary | City Hall, 401 Broadway, Gary, IN 46402.
City of Hammond | City Hall, 5925 Calumet Avenue, Hammond, IN 46320.
City of Whiting | City Hall, 1443 119th Street, Whiting, IN 46394.
Unincorporated Areas of Lake County | Lake County Building, 2293 North Main Street, Crown Point, IN 46307.
Cherokee County, Iowa and Incorporated Areas
Project: 16-07-2164S Preliminary Date: December 13, 2019
City of Aurelia | City Hall, 236 Main Street, Aurelia, IA 51005.
City of Cherokee | City Hall, 416 West Main Street, Cherokee, IA 51012.
City of Larrabee | Community Center, 101 North Main Street, Larrabee, IA 51029.
City of Quimby | City Hall, 101 East 2nd Avenue, Quimby, IA 51049.
City of Washta | City Hall, 203 Main Street, Washta, IA 51061.
Unincorporated Areas of Cherokee County | Cherokee County Courthouse, 520 West Main Street, Cherokee, IA 51012.
Fremont County, Iowa and Incorporated Areas
Project: 16-07-0307S Preliminary Date: June 29, 2018
City of Farragut | City Hall, 518 Hartford Avenue, Farragut, IA 51639.
City of Hamburg | City Office, 1201 Main Street, Hamburg, IA 51640.
City of Imogene | Fremont County Courthouse, 2014 290th Avenue, Sidney, IA 51652.
City of Randolph | City Hall, 107 South Main Street, Randolph, IA 51649.
City of Riverton | City Hall, 803 Summer Avenue, Riverton, IA 51650.
City of Sidney | City Hall, 604 Clay Street, Sidney, IA 51652.
Town of Thurman | Fremont County Courthouse, 2014 290th Avenue, Sidney, IA 51652.
Unincorporated Areas of Fremont County | Fremont County Courthouse, 2014 290th Avenue, Sidney, IA 51652.
Lyon County, Iowa and Incorporated Areas
Project: 16-07-2330S Preliminary Date: November 22, 2019
City of Alvord | City Hall, 302 Main Street, Alvord, IA 51230.
City of Doon | City Hall, 100 3rd Avenue, Doon, IA 51235.
City of George | City Hall, 120 South Main Street, George, IA 51237.
City of Inwood | City Hall, 103 South Main Street, Inwood, IA 51240.
City of Lester | City Hall, 105 West 5th Street, Lester, IA 51242.
City of Little Rock | City Hall, 402 Main Street, Little Rock, IA 51243.
City of Rock Rapids | City Hall, 310 South 3rd Street, Rock Rapids, IA 51246.
Unincorporated Areas of Lyon County | Lyon County Courthouse, 206 South 2nd Avenue, Rock Rapids, IA 51246.
Van Buren County, Michigan (All Jurisdictions)
Project: 13-05-4211S Preliminary Date: September 13, 2019
Charter Township of South Haven | South Haven Charter Township Hall, 09761 Blue Star Memorial Highway, South Haven, MI 49090.
City of South Haven | City Hall, 539 Phoenix Street, South Haven, MI 49090.
Township of Covert | Township Hall, 73943 Lake Street, Covert, MI 49043.
Christian County, Missouri and Incorporated Areas
Project: 19-07-0059S Preliminary Date: September 20, 2019
City of Billings | City Hall, 202 Northeast US Highway 60, Billings, MO 65610.
City of Clever | City Hall, 304 South Clarke Avenue, Clever, MO 65631.
City of Fremont Hills | City Hall, 1953 Fremont Hills Drive, Fremont Hills, MO 65714.
City of Highlandville | City Office, 216 Kentling Avenue, Highlandville, MO 65669.
City of Nixa | City Hall, 715 West Mount Vernon Street, Nixa, MO 65714.
City of Ozark | City Hall, 205 North 1st Street, Ozark, MO 65721.
City of Sparta | City Hall, 200 North Avenue, Sparta, MO 65753.
Unincorporated Areas of Christian County | Christian County Courthouse, 100 West Church Street, Ozark, MO 65721.
Village of Saddlebrook | Village Hall, 776 Saddlebrooke Drive, Saddlebrooke, MO 65630.
Pettis County, Missouri and Incorporated Areas
Project: 18-07-0018S Preliminary Date: October 4, 2019
City of Houstonia | City Hall, 121 North Walnut Street, Houstonia, MO 65333.
City of Sedalia | City Hall, 200 South Osage Avenue, Sedalia, MO 65301.
Unincorporated Areas of Pettis County | Pettis County Courthouse, 415 South Ohio Avenue, Sedalia, MO 65301.
Stone County, Missouri and Incorporated Areas
Project: 19-07-0060S Preliminary Date: September 27, 2019
City of Branson West | City Hall, 110 Silver Lady Lane, Branson West, MO 65737.
City of Crane | City Hall, 120 North Commerce Street, Crane, MO 65633.
City of Galena | City Hall, 111 South Main Street, Galena, MO 65656.
City of Hurley | Stone County Courthouse, 108 East 4th Street, Galena, MO 65656.
City of Kimberling City | City Hall, 34 Kimberling Boulevard, Kimberling City, MO 65686.
City of Reeds Spring | City Hall, 22597 Main Street, Reeds Spring, MO 65737.
Unincorporated Areas of Stone County | Stone County Courthouse, 108 East 4th Street, Galena, MO 65656.
Village of Blue Eye | Stone County Courthouse, 108 East 4th Street, Galena, MO 65656.
Village of Coney Island | Stone County Courthouse, 108 East 4th Street, Galena, MO 65656.
Village of Indian Point | Indian Point Municipal Center, 957 Indian Point Road, Branson, MO 65616.
Village of McCord Bend | Stone County Courthouse, 108 East 4th Street, Galena, MO 65656.
Clinton County, Ohio and Incorporated Areas
Project: 14-05-4202S Preliminary Date: June 28, 2019
City of Wilmington | 69 North South Street, Wilmington, OH 45177.
Unincorporated Areas of Clinton County | 1326 Fife Avenue, Wilmington, OH 45177.
Village of Blanchester | 318 East Main Street, Blanchester, OH 45107.
Erie County, Ohio and Incorporated Areas
Project: 13-05-1797S Preliminary Date: October 11, 2019
City of Sandusky | City Hall, 240 Columbus Avenue, Sandusky, OH 44870.
Greene County, Ohio and Incorporated Areas
Project: 14-05-4202S Preliminary Date: September 13, 2019
City of Beavercreek | 1368 Research Park Drive, Beavercreek, OH 45432.
City of Bellbrook | 15 East Franklin Street, Bellbrook, OH 45305.
City of Centerville | 100 West Spring Valley Road, Centerville, OH 45458.
City of Fairborn | 44 West Hebble Avenue, Fairborn, OH 45324.
City of Kettering | 3600 Shroyer Road, Kettering, OH 45429.
City of Xenia | 101 North Detroit Street, Xenia, OH 45385.
Unincorporated Areas of Greene County | 667 Dayton-Xenia Road, Xenia, OH 45385.
Village of Cedarville | 141 West Xenia Avenue, Cedarville, OH 45314.
Village of Clifton | 100 North Street, Clifton, OH 45316.
Village of Jamestown | 5 East Xenia Street, Jamestown, OH 45335.
Village of Spring Valley | 7 West Main Street, Spring Valley, OH 45370.
Village of Yellow Springs | 100 Dayton Street, Yellow Springs, OH 45387.
Highland County, Ohio and Incorporated Areas
Project: 14-05-4202S Preliminary Date: June 28, 2019
Unincorporated Areas of Highland County | 119 Governor Foraker Place, Suite 211, Hillsboro, OH 45133.
Village of Lynchburg | Village Hall, 155 South Main Street, Lynchburg, OH 45142.

[FR Doc. 2020-11725 Filed 5-29-20; 8:45 am]

BILLING CODE 9110-12-P